DEPARTMENT OF THE INTERIOR

National Park Service

National Register of Historic Places; Notification of Pending Nominations

Nominations for the following properties being considered for listing in the National Register were received by the National Park Service before January 10, 2004. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, (202) 371-6447. Written or faxed comments should be submitted by February 11, 2004.

Carol D. Shull,
Keeper of the National Register of Historic Places.

COLORADO

Prowers County

Wiley Rock Schoolhouse, 603 Main St., Wiley, 04000057.

NORTH DAKOTA

Walsh County

Nordre Trefoldegheds Menigheds, 6 mi. W and 3/8 mi. S of jct. of U.S. 81 and Cty Rte. 9, Nash, 04000058.

OHIO

Cuyahoga County

Blossom, Elizabeth B. and Dudley S., Estate Service Compound, 24449 Cedar Rd., Lyndhurst, 04000059.

Noble County

Noble County Jail and Sheriff's Office, 419 West St., Caldwell, 04000060.

Richland County

Rock Road Bridge, Former Erie Railroad over Rock Rd., Ontario, 04000062.

Summit County

First Congregational Church, 292 E. Market St., Akron, 04000061.

PENNSYLVANIA

Clarion County

Sutton—Ditz House, 18 Grant St., Clarion, 04000063.

Luzerne County

Luzerne County Fresh Air Camp, Middle Rd., approx. 0.25 mi. NE of jct. of Middle Rd. and PA 3021, Butler Township, 04000064.

Montgomery County

Breyer, Henry W., Sr., House, 8230 Old York Rd., Elkins Park, Cheltenham, 04000065.

TEXAS

Comal County

Gruene Historic District (Boundary Increase), Gruene Rd. W. from Sequin St. to the W side of Gruene Bridge, New Braunfels, 04000066.

[FR Doc. 04-1595 Filed 1-26-04; 8:45 am]

BILLING CODE 4312-51-P